DEPARTMENT OF TRANSPORTATION

Federal Aviation Administration

14 CFR Part 39

[Docket No. FAA-2023-1709; Project Identifier MCAI-2022-01642-T; Amendment 39-22685; AD 2024-04-06]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for certain Airbus Canada Limited Partnership Model BD-500-1A10 and BD-500-1A11 airplanes. This AD was prompted by reports of mechanical wear damage on the motive flow fuel-feed tubes that were secured by bonding clamps and clamp blocks inside the collector tank. This AD requires repetitive operational checks of the gravity cross flow shut-off valve and, for certain airplanes, a one-time inspection of the motive flow fuel-feed tubes at the clamp blocks location, and corrective action if necessary, as specified in a Transport Canada AD, which is incorporated by reference. The FAA is issuing this AD to address the unsafe condition on these products.

DATES: This AD is effective April 22, 2024.

The Director of the Federal Register approved the incorporation by reference of a certain publication listed in this AD as of April 22, 2024.

ADDRESSES:

AD Docket: You may examine the AD docket at regulations.gov under Docket No. FAA-2023-1709; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material identified in this final rule, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

• You may view this material that is incorporated by reference at the FAA, Airworthiness Products Section, Operational Safety Branch, 2200 South 216th Street, Des Moines, WA. For information on the availability of this material at the FAA, call 206-231-3195. It is also available in the AD docket at regulations.gov under Docket No. FAA-2023-1709.

FOR FURTHER INFORMATION CONTACT: Joseph Catanzaro, Aviation Safety Engineer, FAA, 1600 Stewart Avenue, Suite 410, Westbury, NY 11590; telephone 516-228-7366; email joseph.catanzaro@faa.gov.

SUPPLEMENTARY INFORMATION:

Background

The FAA issued a notice of proposed rulemaking (NPRM) to amend 14 CFR part 39 by adding an AD that would apply to certain Airbus Canada Limited Partnership (Type Certificate previously held by C Series Aircraft Limited Partnership (CSALP); Bombardier, Inc.) Model BD-500-1A10 and BD-500-1A11 airplanes. The NPRM published in the Federal Register on August 14, 2023 (88 FR 54949). The NPRM was prompted by AD CF-2022-70, dated December 21, 2022, issued by Transport Canada, which is the aviation authority for Canada (Transport Canada AD CF-2022-70) (also referred to as the MCAI). The MCAI states there have been several findings of mechanical wear damage on the motive flow fuel-feed tubes that were secured by bonding clamps and clamp blocks inside the collector tank. In some instances, the wear damage led to a hole in a motive flow fuel-feed tube resulting in a fuel imbalance during flight that required the flightcrews to correct the imbalance using the gravity transfer system. Failure of the affected motive flow fuel-feed tubes and a subsequent failure of the gravity transfer system could lead to a fuel imbalance condition resulting in a reduction in airplane functional capabilities and increased crew workload.

The FAA is issuing this AD to address the unsafe condition on these products.

You may examine the MCAI in the AD docket at regulations.gov under Docket No. FAA-2023-1709.

Discussion of Final Airworthiness Directive

Comments

The FAA received a comment from Air Line Pilots Association, International (ALPA), who supported the NPRM without change.

The FAA received additional comments from one commenter, Delta Air Lines (Delta). The following presents the comments received on the NPRM and the FAA's response to each comment.

Request To Update the Service Information to the Latest Revision

Delta requested that an exception be added to paragraph (h) of the proposed AD to clarify the steps in vendor service bulletin referenced in Airbus Service Bulletin BD500-282015 Issue 003, dated November 10, 2022, until Issue 004 is published. Delta noted that when Airbus Service Bulletin BD500-282015 Issue 004 is published, operators can use Issue 004 as specified in Transport Canada AD CF-2022-70, which includes the text “ACLP SB BD500-282015, Issue 003, dated 10 November 2022, or later revisions approved by the Chief, Continuing Airworthiness, Transport Canada.”

The FAA agrees that operators can use Airbus Service Bulletin BD500-282015 Issue 004 that was published on December 4, 2023, which includes changes to the steps in the vender service bulletin referenced in Airbus Service Bulletin BD500-282015 Issue 003, dated November 10, 2022. However, the FAA has not added an exception to this AD because the MCAI, which is incorporated by reference, already permits later approved revisions of the service information. In any event, operators can use Airbus Service Bulletin BD500-282015 Issue 003, dated November 10, 2022, without exceptions, to address the unsafe condition.

Request for Allowance To Replace Instead of Repair the Fuel Tube

Delta requested another exception be added to paragraph (h) of the proposed AD to allow performing step 2.7 in lieu of step 2.6 of Airbus Service Bulletin BD500-282015 Issue 003, dated November 10, 2022. Step 2.6 states “On the fuel tube (1), if there is damage to the paint only (with no bare metal visible)” and Step 2.7 states “On the fuel tube (1), if there is damage and bare metal is exposed.” Determining paint damage to a fuel tube is subjective and difficult to ensure just paint was removed. Delta would like to replace the motive flow tubes instead of repairing them as required in Step 2.6. Delta stated that during the accomplishment of Step 2.5 that requires a visual inspection of the fuel tube (1) for damage, the option to replace the fuel tube(s) should be made available.

The FAA agrees with the request. Paint damage assessment is subjective and replacing the fuel tube(s) is an acceptable method of compliance instead of repairing the fuel tube(s). The FAA has changed this AD to include an additional exception to paragraph (h) of this AD.

Request for Allowance for Alternative Access

Delta requested that the FAA identify required for compliance (RC) steps in the vendor service information referenced in Airbus Service Bulletin BD500-282015 Issue 003, dated November 10, 2022. Delta stated there is no RC paragraph in the vendor service information and that there are errors in the open-up steps. Delta stated that it is important for the FAA to identify RC steps so that operators can correctly gain access to the motive flow tubes in collector tanks common to Ribs 5-6 of the left-hand and right-hand wing.

The FAA acknowledges the commenter's request; however, although the vendor service information does not identify RC steps, it does allow operators to use alternative access. In the job set-up section of the vendor service information, it specifies that “The steps in the Job set-up section of this service bulletin are recommended steps. The steps give a recommendation to get access to the work area. This recommendation is to give a safe work area and to minimize possible damage to surrounding aircraft parts. Alternative steps can be used at the discretion of the operator.” The FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

Transport Canada AD CF-2022-70 specifies procedures for performing a repetitive operational check of the gravity cross flow shut-off valve and, for certain airplanes, inspecting the motive flow fuel-feed tubes for mechanical wear damage (damage includes cracks, scores, scratches, nicks, and gouges) and pre-load condition, and, based on findings, replacing the motive flow fuel-feed tube. This material is reasonably available because the interested parties have access to it through their normal course of business or by the means identified in the ADDRESSES section.

Interim Action

The FAA considers that this AD is an interim action. If final action is later identified, the FAA might consider further rulemaking then.

Costs of Compliance

The FAA estimates that this AD affects 84 airplanes of U.S. registry. The FAA estimates the following costs to comply with this AD:

Estimated Costs for Required Actions
Labor cost | Parts cost | Cost per product | Cost on U.S. operators
Up to 16.5 work-hours × $85 per hour = $1,403 | $0 | Up to $1,403 | Up to $117,810.

The FAA estimates the following costs to do any necessary on-condition action that would be required based on the results of any required actions. The FAA has no way of determining the number of aircraft that might need this on-condition action:

Estimated Costs of On-Condition Actions
Labor cost | Parts cost | Cost per product
12 work-hours × $85 per hour = $1,020 | $5,256 | $6,276

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-04-06 Airbus Canada Limited Partnership (Type Certificate Previously Held by C Series Aircraft Limited Partnership (CSALP); Bombardier, Inc.): Amendment 39-22685; Docket No. FAA-2023-1709; Project Identifier MCAI-2022-01642-T.

(a) Effective Date

This airworthiness directive (AD) is effective April 22, 2024.

(b) Affected ADs

None.

(c) Applicability

This AD applies to Airbus Canada Limited Partnership (Type Certificate previously held by C Series Aircraft Limited Partnership (CSALP); Bombardier, Inc.) Model BD-500-1A10 and BD-500-1A11 airplanes, certificated in any category, as identified in Transport Canada AD CF-2022-70, dated December 21, 2022 (Transport Canada AD CF-2022-70).

(d) Subject

Air Transport Association (ATA) of America Code: 28, Fuel.

(e) Unsafe Condition

This AD was prompted by reports of mechanical wear damage on the motive flow fuel-feed tubes that were secured by bonding clamps and clamp blocks inside the collector tank. The FAA is issuing this AD to address mechanical wear damage on the motive flow fuel-feed tubes. Failure of the affected motive flow fuel-feed tubes and a subsequent failure of the gravity transfer system could lead to a fuel imbalance condition resulting in a reduction in airplane functional capabilities and increased crew workload.

(f) Compliance

Comply with this AD within the compliance times specified, unless already done.

(g) Requirements

Except as specified in paragraph (h) of this AD: Comply with all required actions and compliance times specified in, and in accordance with, Transport Canada AD CF-2022-70.

(h) Exceptions to Transport Canada AD CF-2022-70

(1) Where Transport Canada AD CF-2022-70 refers to its effective date, this AD requires using the effective date of this AD.

(2) Where Transport Canada AD CF-2022-70 specifies “hours air time”, this AD requires replacing that text with “flight hours.”

(3) Where Part II of Transport Canada AD CF-2022-70 specifies “rectify as required,” this AD requires replacing that text with “accomplish all corrective actions before further flight.”

(4) Where the service information referenced in Part II of Transport Canada AD CF-2022-70 specifies to do rework if there is no damage or paint damage only, operators may either do the rework or replace the fuel tubes as specified in the service information referenced in Part II of Transport Canada AD CF-2022-70.

(i) No Reporting Requirement

Although the service information referenced in Transport Canada AD CF-2022-70 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to ATTN: Program Manager, Continuing Operational Safety, at the address identified in paragraph (k) of this AD or email to: 9-AVS-AIR-730-AMOC@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Airbus Canada Limited Partnership (Type Certificate Previously Held by C Series Aircraft Limited Partnership (CSALP); Bombardier, Inc.)'s Transport Canada Design Approval Organization (DAO). If approved by the DAO, the approval must include the DAO-authorized signature.

(k) Additional Information

For more information about this AD, contact Joseph Catanzaro, Aviation Safety Engineer, FAA, 1600 Stewart Avenue, Suite 410, Westbury, NY 11590; telephone 516-228-7366; email joseph.catanzaro@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Transport Canada AD CF-2022-70, dated December 21, 2022.

(ii) [Reserved]

(3) For Transport Canada AD CF-2022-70, contact Transport Canada, Transport Canada National Aircraft Certification, 159 Cleopatra Drive, Nepean, Ontario K1A 0N5, Canada; telephone 888-663-3639; email: TC.AirworthinessDirectives-Consignesdenavigabilite.TC@tc.gc.ca; website: tc.canada.ca/en/aviation.

(4) You may view this material that is incorporated by reference at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on March 11, 2024.
Victor Wicklund,
Deputy Director, Compliance & Airworthiness Division, Aircraft Certification Service.

[FR Doc. 2024-05493 Filed 3-15-24; 8:45 am]

BILLING CODE 4910-13-P